DEPARTMENT OF COMMERCE

National Oceanic and Atmospheric Administration

50 CFR Part 660

[Docket No. 000501119-0119-01; I.D. 061201A]

Fisheries Off West Coast States and in the Western Pacific; West Coast Salmon Fisheries; Inseason Adjustment for the Commercial Fishery from U.S.-Canada Border to Cape Falcon, OR

AGENCY: National Marine Fisheries Service (NMFS), National Oceanic and Atmospheric Administration (NOAA), Commerce.

ACTION: Inseason adjustment; request for comments.

SUMMARY: NMFS announces modification of the landing requirements for the commercial salmon fishery (except coho) in the area from the U.S.-Canada Border to Cape Falcon, OR, to allow salmon caught in the area to be landed in Oregon. The modified provision requires that vessels land and deliver fish within the area (U.S.-Canada Border to Cape Falcon), or within Oregon ports south of Cape Falcon, and within 24 hours of any closure of this fishery. NMFS also describes the Oregon State reporting and landing requirements for salmon caught in the area. This action is necessary to provide flexibility to Oregon fishermen, while implementing the 2001 annual management measures for ocean salmon fisheries.

DATES: Inseason adjustment effective 2400 hours local time, May 4, 2001. Comments will be accepted through July 26, 2001.

ADDRESSES: Comments on this action may be mailed to Donna Darm, Acting Regional Administrator, Northwest Region, NMFS, NOAA, 7600 Sand Point Way N.E., Bldg. 1, Seattle, WA 98115-0070; fax 206-526-6376; or Rebecca Lent, Regional Administrator, Southwest Region, NMFS, NOAA, 501 W. Ocean Blvd., Suite 4200, Long Beach, CA 90802-4132; fax 562-980-4018. Comments will not be accepted if submitted via e-mail or the Internet. Information relevant to this document is available for public review during business hours at the Office of the Regional Administrator, Northwest Region, NMFS.

FOR FURTHER INFORMATION CONTACT: Christopher Wright, 206-526-6140.

SUPPLEMENTARY INFORMATION: Regulations governing the ocean salmon fisheries at 50 CFR 660.409(b)(1)(v) state that the Regional Administrator, in consultation with the Chairman of the Pacific Fishery Management Council (Council) and the appropriate State Directors, may, under the flexible inseason management provisions, modify boundaries, including landing boundaries.

In the 2001 annual management measures for ocean salmon fisheries (66 FR 23185, May 8, 2001), NMFS announced that the area from the U.S.-Canada Border to Cape Falcon would open May 1 through the earlier of June 30 or a 17,000-chinook guideline. The 17,000-chinook guideline includes a subarea guideline of 12,000 chinook for the subarea between the U.S.-Canada border and the Queets River. Vessels were required to land and deliver their fish within the area (U.S.-Canada Border to Cape Falcon) or in adjacent areas that are closed to all commercial non-Indian salmon fishing, and within 24 hours of any closure of this fishery. In addition, Washington State regulations required that fishermen fishing within the U.S.-Canada Border to Queets River subarea, and intending to land their catch outside of this subarea, notify the Washington Department of Fish and Wildlife (WDFW) before they leave the subarea. However, by restricting fishermen fishing in the area (U.S.-Canada Border to Cape Falcon) to land and deliver their catch within the area, or in adjacent areas closed to all commercial non-Indian salmon fishing, the 2001 annual management measures for ocean salmon fisheries inadvertently prohibited salmon caught north of Cape Falcon from being landed in Oregon. There are no qualifying Oregon ports for fishermen fishing north of Cape Falcon. This situation came to light after the annual management measures were sent by the Council to NMFS for approval after the April 2001 meeting. Therefore, the State of Oregon requested an inseason modification to the 2001 annual management measures to modify the area landing requirements.

The Regional Administrator consulted with representatives of the Council, the Oregon Department of Fish and Wildlife (ODFW), and WDFW regarding this adjustment on May 3, 2001. Oregon recommended that the management measures for the north of Cape Falcon area be changed to allow fish to be landed in ports south of Cape Falcon. The State of Oregon has implemented landing notification requirements to ensure that proper catch accounting (accounting for the number of fish caught) is done for the area catch.

In certain quota fisheries, it is necessary to restrict landing to certain areas in order to ensure accurate and timely catch accounting. This was the reason for the initial landing restriction. However, NMFS and the states have realized that the existing language was particularly restrictive on fishermen who want to land south of Cape Falcon, and the catch accounting problem can be solved by the State of Oregon. Oregon has now implemented a reporting system for catch from north of Cape Falcon, which will allow accurate and timely catch accounting. Therefore, NMFS is implementing this modification of the annual management measures.

The adjusted regulatory language has been approved by NMFS and reads as follows:

U.S.-Canada Border to Cape Falcon

May 1 through earlier of June 30 or 17,000-chinook guideline (see C.7.a of the 2001 annual salmon management measures). All salmon except coho. No more than 4 spreads per line beginning June 1 (see gear restrictions in C.2 of the 2001 annual salmon management measures). Cape Flattery and Columbia Control Zones closed (C.4.a and C.4.b of the 2001 annual salmon management measures). The 17,000-chinook guideline includes a subarea guideline of 12,000 chinook for the area between the U.S.-Canada border and the Queets River. Vessels must land and deliver their fish within the area (U.S.-Canada Border to Cape Falcon), or in Oregon ports south of Cape Falcon, and within 24 hours of any closure of this fishery. Washington State regulations require that fishermen fishing within the U.S.-Canada Border to Queets River subarea and intending to land their catch outside of this subarea notify WDFW before they leave the subarea. Oregon State regulations require that vessels intending to land their catch in an Oregon port south of Cape Falcon must notify ODFW (541-867-0300 ext. 252) before leaving the area to report the name of the vessel, the intended port of landing, the estimated time of arrival, and the catch aboard. Inseason actions may modify harvest guidelines in later fisheries to achieve or prevent exceeding the overall allowable troll harvest impacts (see C.7.a of the 2001 annual salmon management measures).

As provided by the inseason notification procedures at 50 CFR 660.411, actual notice to fishermen of these actions was given by telephone hotline number 206-526-6667 or 800-662-9825, and by U.S. Coast Guard Notice to Mariners broadcasts on Channel 16 VHF-FM and 2182 kHz.

Because of the need for immediate action in order to provide flexibility to the fishermen, NMFS has determined that good cause exists for this document to be issued without affording a prior opportunity for public comment. This document does not apply to other fisheries that may be operating in other areas.

Classification

This action is authorized by 50 CFR 660.409 and 660.411 and is exempt from review under Executive Order 12866.

Authority: 16 U.S.C. 1801 et seq.

Dated: July 5, 2001.
Bruce C. Morehead,
Acting Director, Office of Sustainable Fisheries, National Marine Fisheries Service.

[FR Doc. 01-17365 Filed 7-10-01; 8:45 am]

BILLING CODE 3510-22-S